DEPARTMENT OF THE INTERIOR

National Park Service

[NPS-WASO-NAGPRA-NPS0035337; PPWOCRADN0-PCU00RP14.R50000]

Notice of Inventory Completion: Antonio J. Waring, Jr. Archaeological Laboratory, University of West Georgia, Carrollton, GA

AGENCY: National Park Service, Interior.

ACTION: Notice.

SUMMARY: In accordance with the Native American Graves Protection and Repatriation Act (NAGPRA), the Antonio J. Waring, Jr. Archaeological Laboratory has completed an inventory of human remains and has determined that there is a cultural affiliation between the human remains and Indian Tribes or Native Hawaiian organizations in this notice. The human remains were removed from Douglas County, GA.

DATES: Repatriation of the human remains in this notice may occur on or after March 17, 2023.

ADDRESSES: Dr. Nathan R. Lawres, Laboratory Director, Antonio J. Waring, Jr. Archaeological Laboratory, University of West Georgia, 1601 Maple Street, Carrollton, GA 30118, telephone (678) 839-6454, email nlawres@westga.edu.

SUPPLEMENTARY INFORMATION: This notice is published as part of the National Park Service's administrative responsibilities under NAGPRA. The determinations in this notice are the sole responsibility of the Antonio J. Waring, Jr. Archaeological Laboratory. The National Park Service is not responsible for the determinations in this notice. Additional information on the determinations in this notice, including the results of consultation, can be found in the inventory or related records held by the Antonio J. Waring, Jr. Archaeological Laboratory.

Description

In the summer of 1972, human remains representing, at minimum, two individuals were removed from the Annewakee Creek Site (9DO2) in Douglas County, GA, by Dr. Roy Dickens, a faculty member of the Anthropology Department at Georgia State University. Dickens reported on these excavations in the Southeastern Archaeological Conference Bulletin, No. 18, pp. 31-42 (see particularly pp. 36-38). Commenting on these human remains, Dickens stated, “No burials were found in the 1972 excavations although the owner had recovered two partial skeletons in his initial grading operations” (Dickens, 1975:38). The collection was acquired by the Antonio J. Waring Archaeological Laboratory, University of West Georgia, through a transfer of archeological collections and records from Georgia State University to West Georgia College, presently the University of West Georgia. This transfer took place in the summer of 1991, following the termination of the archeological component of the anthropology program of Georgia State University. Incomplete copies of skeletal inventories conducted at the Georgia State University Laboratory of Archaeology by R. Johnson on October 11, 1973, are the only records that accompany the Annewakee Creek Mound Collection. No known individuals were identified. No associated funerary objects are present.

Officials of the Antonio J. Waring Archaeological Laboratory have determined that, pursuant to 25 U.S.C. 3001(9), the human remains described in this notice a represent the physical remains of two individuals of Native American ancestry based on morphological traits of the human remains and the archeological context from which they were recovered. The archeological context suggests a Middle Woodland Period chronological association, and on the basis of the ceramic types present, the human remains most likely date to A.D. 300-600. Additionally, there is a ¹⁴C date of A.D. 605 ± 85 [GX2825] that was obtained from charred wood associated with Middle Woodland Period ceramics.

Further assessment of the human remains and associated collections was made by Antonio J. Waring, Jr. Archaeological Laboratory professional staff in consultation with members of the STARR Alliance, including representatives of the Cherokee Nation; Coushatta Tribe of Louisiana; Eastern Band of Cherokee Indians; Mississippi Band of Choctaw Indians; Seminole Tribe of Florida; The Choctaw Nation of Oklahoma; The Muscogee (Creek) Nation; and The Seminole Nation of Oklahoma.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, oral traditional, expert opinion, and other relevant information.

Determinations

Pursuant to NAGPRA and its implementing regulations, and after consultation with the appropriate Indian Tribes and Native Hawaiian organizations, the Antonio J. Waring, Jr. Archaeological Laboratory has determined that:

• The human remains described in this notice represent the physical remains of two individuals of Native American ancestry.

• There is a relationship of shared group identity that can be reasonably traced between the human remains and associated funerary objects described in this notice and the Kialegee Tribal Town; Miccosukee Tribe of Indians; Poarch Band of Creek Indians; Seminole Tribe of Florida; The Muscogee (Creek) Nation; The Seminole Nation of Oklahoma; and the Thlopthlocco Tribal Town.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 17, 2023. If competing requests for repatriation are received, the Antonio J. Waring, Jr. Archaeological Laboratory must determine the most appropriate requestor prior to repatriation. Requests for joint repatriation of the human remains are considered a single request and not competing requests. The Antonio J. Waring, Jr. Archaeological Laboratory is responsible for sending a copy of this notice to the Indian Tribes identified in this notice.

Authority: Native American Graves Protection and Repatriation Act, 25 U.S.C. 3003, and the implementing regulations, 43 CFR 10.9, 10.10, and 10.14.

Dated: February 8, 2023.
Melanie O'Brien,
Manager, National NAGPRA Program.

[FR Doc. 2023-03235 Filed 2-14-23; 8:45 am]

BILLING CODE 4312-52-P